DEPARTMENT OF ENERGY

Proposed Subsequent Arrangement

AGENCY: Office of Nonproliferation and International Security, Department of Energy.

ACTION: Proposed subsequent arrangement.

SUMMARY: Pursuant to Article VIII.C of the Agreement for Cooperation Concerning Civil Uses of Atomic Energy, signed April 4, 1972, as amended, the American Institute in Taiwan and the Taipei Economic and Cultural Representative Office (TECRO) hereby jointly determine that the provisions in Article XI of the Agreement may be effectively applied with respect of the plan proposed by TECRO in March 2010 for the alteration in form or content of U.S.-origin nuclear material contained in irradiated fuel elements at the hot laboratory of the Institute of Nuclear Energy Research, Lungtan, Taiwan. The facility is hereby found acceptable to both parties pursuant to Article VIII.C of the Agreement for the sole purpose of alteration in form or content of irradiated fuel elements for the period ending December 31, 2015.

In accordance with section 131a. of the Atomic Energy Act of 1954, as amended, it has been determined that this subsequent arrangement will not be inimical to the common defense and security.

This subsequent arrangement will take effect no sooner than January 12, 2011.

Dated: December 21, 2010.
For the Department of Energy.
Thomas P. D'Agostino,
Administrator, National Nuclear Security Administration.

[FR Doc. 2010-32586 Filed 12-27-10; 8:45 am]

BILLING CODE 6450-01-P